DEPARTMENT OF COMMERCE

National Telecommunications and Information Administration

15 CFR Part 2301

[Docket No. 170627596-7596-01]

RIN 0660-AA34

Repeal of Regulations Governing the Public Telecommunications Facilities Program

AGENCY: National Telecommunications and Information Administration, U.S. Department of Commerce.

ACTION: Notice of proposed rulemaking (NPRM).

SUMMARY: The National Telecommunications and Information Administration (NTIA) issues this NPRM to propose the repeal of its regulations governing the Public Telecommunications Facilities Program (PTFP). The PTFP is a competitive grant program that helps public broadcasting stations, state and local governments, Indian Tribes, and nonprofit organizations to construct public television and radio stations. As of Fiscal Year 2011, no funds have been available for PTFP grants. NTIA is proposing to repeal its regulations governing the PTFP because the regulations are unnecessary and obsolete.

DATES: Comments must be received by August 17, 2017 at 5:00 p.m. Eastern Standard Time.

ADDRESSES: The public may submit comments identified by [170627596-7596-01] by email to ntiaregreform@ntia.doc.gov or by mail to: Office of the Chief Counsel, National Telecommunications and Information Administration, U.S. Department of Commerce, 1401 Constitution Avenue NW., Room 4713, Washington, DC 20230. The public may also submit comments through the Federal e-Rulemaking Portal: http://www.regulations.gov (search using the docket number). Follow the online instructions for submitting comments.

FOR FURTHER INFORMATION CONTACT: Milton Brown, Deputy Chief Counsel, National Telecommunications and Information Administration, U.S. Department of Commerce, 1401 Constitution Avenue NW., Room 4713, Washington, DC 20230; telephone: (202) 482-1816; facsimile: (202) 501-8013; or email: mbrown@ntia.doc.gov.

SUPPLEMENTARY INFORMATION:

I. Background

The PTFP is a competitive grant program that supports the planning and construction of public telecommunications facilities.¹ The program helps public broadcasting stations, state and local governments, Indian Tribes, and nonprofit organizations to construct public television and radio stations. On November 8, 1996, NTIA issued a final rule entitled, “Public Telecommunications Facilities Program,” to carry out its statutory responsibility to administer the PTFP.² With its final rule, NTIA revised and clarified its regulations governing the PTFP. The purpose of the regulations was to outline the PTFP grant application requirements, the evaluation and selection process, post-award requirements, and the completion of PTFP grant projects. Between Fiscal Years 1994 and 2010, NTIA awarded between $14 and $42 million each year in PTFP grant awards to assist radio, television, digital television including digital conversion projects, and distance learning.

¹ The PTFP is authorized under the Public Telecommunications Financing Act of 1978, as amended, 47 U.S.C. 390-393, 397-399b.

² 61 FR 57966 (Nov. 8, 1996). (The rules were codified at 47 CFR part 2301.)

For the past seven years, no funds have been available for PTFP grants. In 2010, the Department of Commerce found that the majority of PTFP grants had assisted digital television conversion projects which had concluded, and that support for public broadcasters was available from other sources.³ For these reasons, the Department of Commerce identified the PTFP as “outdated, ineffective, or duplicative.” ⁴ Accordingly, Congress appropriated no funds for PTFP in Fiscal Year 2011.⁵

³ See Commerce, Justice, Science, and Related Agencies Appropriations for Fiscal Year 2011: Hearing before the Subcommittee on Commerce, Justice, Science, and Related Agencies of the Senate Committee on Appropriations, 111th Cong. 12, 22 (Mar. 4, 2010).

⁴ Id. at 12.

⁵ See Department of Defense and Full-Year Continuing Appropriations Act of 2011, Public Law 112-10, sec. 1320 (Apr. 15, 2011) (“Notwithstanding section 1101, the level of the following accounts shall be $0: `Department of Commerce, National Telecommunications and Information Administration, Public Telecommunications Facilities Planning and Construction' ”). In the 2014 appropriation, Congress rescinded $8.5 million from the NTIA PTFP account. Consolidated Appropriations Act, 2014, Public Law 113-76, sec. 524(a) (Jan. 17, 2014) (“Of the unobligated balances available for `Department of Commerce, National Telecommunications and Information Administration, Public Telecommunications Facilities, Planning and Construction,' $8,500,000 is hereby rescinded”).

As a result of the lack of funding, NTIA began the orderly shutdown of the PTFP thereafter. NTIA has not processed applications or awarded any additional grants under the PTFP since that time. NTIA has continued to monitor PTFP grants it awarded before Fiscal Year 2011 to ensure taxpayer funds have been utilized in the most responsible and efficient manner.

II. Comments

The public may submit comments identified by [170627596-7596-01] by email to ntiaregreform@ntia.doc.gov or by mail to: Office of the Chief Counsel, National Telecommunications and Information Administration, U.S. Department of Commerce, 1401 Constitution Avenue NW., Room 4713, Washington, DC 20230. The public may also submit comments through the Federal e-Rulemaking Portal: http://www.regulations.gov (search using the docket number). Follow the online instructions for submitting comments. Comments submitted by email should be machine-readable and should not be copy-protected. Commenters should include the name of the person or organization filing the comment, as well as a page number on each page of their submissions. Paper submissions should include a CD or DVD with an electronic version of the comment, which should be labeled with the name and organizational affiliation of the filer. All comments received are a part of the public record and will be posted without change to the NTIA Web site (http://www.ntia.doc.gov) and the Federal e-Rulemaking Portal: http://www.regulations.gov. All personal identifying information (e.g., name, address) voluntarily submitted by the commenter may be publicly accessible. Do not submit confidential business information or otherwise sensitive or protected information.

III. Repeal of Regulations for the Public Telecommunications Facilities Program

Congress authorized NTIA to establish regulations “as may be necessary to carry out” the PTFP.⁶ Due to the lack of funding for seven years and no prospective funding for the PTFP, the regulations governing the PTFP are unnecessary and obsolete. If these regulations are not removed, it may suggest that the program is still active and may cause confusion regarding the status of the program. Accordingly, NTIA issues this NPRM to propose the repeal of its regulations governing the PTFP.

⁶ 47 U.S.C. 392(e).

Executive Order 12866

The proposed repeal of the regulations governing the PTFP is not a significant regulatory action as defined by Executive Order 12866.

Executive Order 13132

The proposed repeal of the regulations governing the PTFP does not contain policies with federalism implications sufficient to warrant preparation of a federalism assessment under Executive Order 13132.

Regulatory Flexibility Act

The proposed repeal of regulations governing the PTFP will not have a significant economic impact on a substantial number of small entities. NTIA estimates that the proposed repeal of the regulations governing PTFP will impact no small entities. The proposed repeal of the regulations governing PTFP does not include reporting, recordkeeping, or other compliance requirements; therefore, no small entities will be subject to such requirements. Thus, the Chief Counsel for Regulation of the Department of Commerce is providing a certification to the Chief Counsel for Advocacy of the Small Business Administration in accordance with section 605(b) of the Regulatory Flexibility Act (5 U.S.C. 605(b)).

Paperwork Reduction Act

The proposed repeal of the regulations governing the PTFP contains no collections of information. Therefore, clearance by the Office of Management and Budget (OMB) under the Paperwork Reduction Act of 1995 is not required. In 2013, OMB approved NTIA's requests to discontinue the following collections associated with the regulations governing the PTFP: OMB Control Numbers 0660-0003, 0660-0001, and 0605-0001; consequently, NTIA has no active collections associated with its regulations governing the PTFP.

Lists of Subjects in 15 CFR Part 2301

Administrative procedure, Grant programs—communications, Reporting and recordkeeping requirements, Telecommunications.

PART 2301—[REMOVED AND RESERVED]

For the reasons stated above, and under the authority of 47 U.S.C. 390-393 and 397-399b, NTIA proposes to remove and reserve Part 2301.

Dated: July 12, 2017.
Leonard Bechtel,
Director of Administration and Chief Financial Officer, performing the non-exclusive duties of the Assistant Secretary for Communications and Information, National Telecommunications and Information Administration.

[FR Doc. 2017-14978 Filed 7-17-17; 8:45 am]

BILLING CODE 3510-60-P